DEPARTMENT OF STATE

[Delegation of Authority No. 533-1]

Delegation of Authority; Designation of Foreign Country for Definition of Covered Employee, Covered Individual, and Qualifying Injury

By virtue of the authority vested in the Secretary of State by the laws of the United States, including the State Department Basic Authorities Act, as amended (22 U.S.C. 2651a), and § 901 of the Further Consolidated Appropriations Act, 2020 (Div. J, Title IX, Pub. L. 116-94), as amended (the Act), and codified in 22 U.S.C. 2680b, I hereby delegate to the Under Secretary of State for Management, to the extent authorized by law, the authority to designate “another foreign country” for purposes of the definition of “Covered Employee,” “Covered Individual,” and “Qualifying Injury”, as provided in subsections (e)(2), (e)(3)(A), (e)(4)(A)(i), (e)(4)(B)(i), and (f) of § 901, as amended (22 U.S.C. 2680b(e)(2); 22 U.S.C. 2680b(e)(3)(A); 22 U.S.C. 2680b(e)(4)(A)(i); 22 U.S.C. 2680b(e)(4)(B)(i); and 22 U.S.C. 2680b(f)).

Any act, regulation, or procedure subject to, or affected by, this delegation shall be deemed to be such act, regulation, or procedure as amended from time to time.

The Secretary, the Deputy Secretary, and the Deputy Secretary for Management and Resources, may also exercise the authorities delegated herein. Nothing in this delegation shall be deemed to supersede or modify any other delegation of authority. This document shall be published in the Federal Register.

Dated: January 17, 2023.
Antony J. Blinken,
Secretary of State.

[FR Doc. 2023-01482 Filed 1-24-23; 8:45 am]

BILLING CODE 4710-10-P